DEPARTMENT OF VETERANS AFFAIRS

Advisory Committee on Cemeteries and Memorials, Notice of Meeting

The Department of Veterans Affairs (VA) gives notice under the Federal Advisory Committee Act, 5 U.S.C. app. 2, that the annual meeting of the Advisory Committee on Cemeteries and Memorials (hereinafter the Committee) will be held at the Veterans of Foreign Wars, Memorial Building, 200 Maryland Ave. NE, Washington, DC 20002. The meeting sessions will begin and end as shown in the following table:

Date | Time
Wednesday, June 15, 2022 | 8:30 a.m. to 4:00 p.m. EDT.
Thursday, June 16, 2022 | 8:30 a.m. to 12:05 p.m. EDT.

The meeting sessions are open to the public. If you wish to observe the meeting virtually may use the following WebEx link: https://veteransaffairs.webex.com/veteransaffairs/j.php?MTID=mfb026d75837bb96941a29e0054d71c09. To join by phone: 1-404-397-1596 (toll free); meeting number: 2762 151 2229; password: 2M9fHeupt@8.

The purpose of the Committee is to advise the Secretary of Veterans Affairs on the administration of national cemeteries, soldiers' lots and plots, the selection of new national cemetery sites, the erection of appropriate memorials, and the adequacy of Federal burial benefits. The Committee will make recommendations to the Secretary regarding such activities.

On Wednesday, June 15, 2022, the agenda will include remarks by National Cemetery Administration Leadership; appointment of new members, Mr. Eric Brown and Mr. James Rudolph; report on the Office of Inspector General Report on Unclaimed Veterans Remains; briefing on Arlington National Cemetery, American Battle Monuments Commission and National Park Service; update on the Urn and Commemorative Plaque benefit, Cemetery Operations, Veterans Cemetery Grants Program; public comments; and open discussion.

On Thursday, June 16, 2022, the agenda will include remarks and recap from committee chair; update on Outreach, Cemetery Dedications, Social Media and other initiatives to inform the public about benefits to memorialize Veterans; Committee working group updates, public comments; and open discussion. In the afternoon, the Committee will visit Alexandria National Cemetery. Transportation will not be provided for public guests.

Any member of the public wishing to attend the meeting or seeking additional information should contact Ms. Faith Hopkins, Designated Federal Officer, at 202-603-4499. Please leave a voice message. The Committee will also accept written comments. Comments may be transmitted electronically to the Committee at faith.hopkins@va.gov. In the public's communications with the Committee, the writers must identify themselves and state the organizations, associations, or persons they represent.

Dated: May 16, 2022.
Jelessa M. Burney,
Federal Advisory Committee Management Officer.

[FR Doc. 2022-10773 Filed 5-18-22; 8:45 am]

BILLING CODE P